DEPARTMENT OF THE INTERIOR

National Park Service

Notice of Intent to Repatriate a Cultural Item in the Possession of the American Museum of Natural History of New York, NY

AGENCY: National Park Service, Interior.

ACTION: Notice.

Notice is hereby given under the Native American Graves Protection and Repatriation Act, 43 CFR 10.10 (a)(3), of the intent to repatriate a cultural item in the possession of the American Museum of Natural History that meets the definition of “unassociated funerary object” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The cultural item is a wooden hat carved in the shape of a seagull with wings and tail of hide. The seagull is painted in red, black, and blue; has a hawk carved into its breast; and has copper eyebrows. The wings and tail have been printed with a design of bear’s heads.

At an unknown date, George Thorton Emmons acquired the seagull hat as part of a set of implements from a grave house of the “Hootz-ar-tar qwan,” near Angoon, AK. In 1894, the American Museum of Natural History acquired this seagull hat from Mr. Emmons and accessioned the item into its collection the same year.

The cultural affiliation of this item is Hutsnuwu (“Hootz-ar-tar qwan”) Tlingit as indicated through museum records and consultation with representatives of the Central Council of the Tlingit and Haida Indian Tribes of Alaska. The Central Council of the Tlingit and Haida Indian Tribes of Alaska has filed a claim for this cultural item on behalf of the Deisheetaan clan of the Hutsnuwu Tlingit, for which the seagull is said to be a crest.

Based on the above-mentioned information, officials of the American Museum of Natural History have determined that, pursuant to 43 CFR 10.2 (d)(2)(ii), this cultural item is reasonably believed to have been placed with or near individual human remains at the time of death or later as part of the death rite or ceremony and is believed, by a preponderance of the evidence, to have been removed from a specific burial site of a Native American individual. Officials of the American Museum of Natural History also have determined that, pursuant to 43 CFR 10.2 (e), there is a relationship of shared group identity that can be reasonably traced between this item and the Central Council of the Tlingit and Haida Indian Tribes of Alaska.

This notice has been sent to officials of the Central Council of the Tlingit and Haida Indian Tribes of Alaska, Sealaska Corporation; Kootznoowoo, Incorporated; and Angoon Community Association. Representatives of any other Indian tribe that believes itself to be culturally affiliated with this object should contact Elaine Guthrie, Acting Director of Cultural Resources, American Museum of Natural History, Central Park West at 79th Street, New York, NY 10024, telephone (212) 769-5835 before June 19, 2002. Repatriation of this object to the Central Council of the Tlingit and Haida Indian Tribes of Alaska may begin after that date if no additional claimants come forward.

Dated: February 6, 2002.
Robert Stearns,
Manager, National NAGPRA Program.

[FR Doc. 02-12558 Filed 5-17-02; 8:45 am]

BILLING CODE 4310-70-S